DEPARTMENT OF COMMERCE

National Oceanic and Atmospheric Administration

[RTID 0648-XE777]

Magnuson-Stevens Act Provisions; General Provisions for Domestic Fisheries; Application for Exempted Fishing Permits

AGENCY: National Marine Fisheries Service (NMFS), National Oceanic and Atmospheric Administration (NOAA), Commerce.

ACTION: Notice of receipt of application; request for comments.

SUMMARY: The Assistant Regional Administrator for Sustainable Fisheries, Greater Atlantic Region, NMFS, has made a preliminary determination that an Exempted Fishing Permit (EFP) application contains all of the required information and warrants further consideration. The EFP would allow federally-permitted fishing vessels to fish outside fishery regulations in support of exempted fishing activities proposed by Atlantic Capes Fisheries, Inc., in partnership with Rutgers University. Regulations under the Magnuson-Stevens Fishery Conservation and Management Act require publication of this notification to provide interested parties the opportunity to comment on applications for proposed EFP.

DATES: Comments must be received on or before April 7, 2025.

ADDRESSES: You may submit written comments by the following method:

• Email: nmfs.gar.efp@noaa.gov. Include in the subject line “SCOQ Mixing Amendment Accounting Protocols”.

FOR FURTHER INFORMATION CONTACT: Christine Ford, Fishery Management Specialist, christine.ford@noaa.gov, (978) 281-9185.

SUPPLEMENTARY INFORMATION: The applicant submitted a complete application for an EFP to conduct commercial fishing activities that the regulations would otherwise restrict. This EFP would exempt the participating vessels from the following Federal regulations:

Table 1—Requested Exemptions
CFR citation | Regulation | Need for exemption
50 CFR 648.14(j)(1)(iii) | Prohibition against fishing for, retaining, or landing both surfclams and ocean quahogs (SCOQ) in or from the EEZ on the same trip | Retaining and landing both species on the same trip is needed to calculate the amount of mixing, in order to develop protocols for future estimation of discards and mixing at sea.
50 CFR 648.14(j)(1)(iv) | Prohibition against fishing for, retaining, or landing ocean quahogs in or from the EEZ on a trip designated as a surfclam fishing trip under § 648.15(b); or fishing for, retaining, or landing surfclams in or from the EEZ on a trip designated as an ocean quahog fishing trip under § 648.15(b) | Retaining and landing ocean quahogs on a designated surfclam trip, or retaining and landing surfclams on a designated ocean quahog trip is needed to calculate the amount of mixing, in order to develop protocols for future estimation of discards and mixing at sea.

Table 2—Project Summary
Project title | SCOQ Mixing Amendment Accounting Protocols Study.
Project start | Upon issuance.
Project end | One year from issuance.
Project objectives | To conduct industry-funded research to determine best practices and protocols for: (1) estimating discards of non-target clam species for eVTR reporting; (2) estimating pre-landing bushel volumes of surfclam/ocean quahogs that are mixed in cages; and (3) fully accounting for the volume of bushels separated from mixed cages to be reported to NMFS.
Project location | Southern New England and Mid-Atlantic.
Number of vessels | Up to 15.
Number of trips | Up to 1,200.
Trip duration (days) | Up to 2 days.
Total number of days | Up to 2,400.
Gear type(s) | Dredge.
Number of tows or sets | 25 per trip.
Duration of tows or sets | 1 hour.

Project Narrative

There are increasing numbers of surfclams moving into the deeper water habitat of ocean quahogs. Current regulations do not allow for the landing of both species on the same trip. In response to this issue, the Mid-Atlantic Fisheries Management Council (MAFMC) is working on solutions and a preferred alternative for an amendment to the SCOQ Fishery Management Plan. Atlantic Capes Fisheries, in partnership with Rutgers University, is requesting an EFP to conduct industry-funded research to develop protocols for fishing vessel crews (the crew) to accurately estimate surfclam and ocean quahog discards and mixing at sea, and scientifically evaluate the accuracy of those methods.

This EFP would authorize up to 15 vessels to fish for, retain, and land both surfclams and ocean quahogs on the same trip, either in mixed or separate cages, regardless of which species the trip was designated for. On each trip, the crew would make independent estimates of mixing using protocols co-developed by scientists, industry, and the Northeast Fisheries Science Center (NEFSC). Processors would independently sort and document catch at the plant. A subset of trips (approximately two per month) would carry a project scientist, to collect independent estimates using scientifically derived protocols, taking into consideration methods provided by the Northeast Fisheries Observer Program. Project scientists would also collect estimates at the processing plant, though not from the same trips on which they collected at-sea estimates.

All independent estimates would be submitted to Rutgers University for comparison. The results of the comparisons would be summarized in a report made available to the MAFMC, NEFSC, and the Greater Atlantic Regional Fisheries Office.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

All comments received are a part of the public record and may be posted for public viewing without change. All personal identifying information (e.g., name, address), confidential business information, or otherwise sensitive information submitted voluntarily by the sender will be publicly accessible. NMFS will accept anonymous comments (enter “anonymous” as the signature if you wish to remain anonymous).

Authority: 16 U.S.C. 1801 et seq.

Dated: March 18, 2025.
Karen H. Abrams,
Acting Director, Office of Sustainable Fisheries, National Marine Fisheries Service.

[FR Doc. 2025-04877 Filed 3-20-25; 8:45 am]

BILLING CODE 3510-22-P